NUCLEAR REGULATORY COMMISSION

NUREG/CR-XXXX, “Modeling a Digital Feedwater Control System Using Traditional Probabilistic Risk Assessment Methods”; Draft Report for Comment

AGENCY: U.S. Nuclear Regulatory Commission.

ACTION: Notice of availability for public comment.

SUMMARY: The U.S. Nuclear Regulatory Commission (NRC) is conducting research to support development of regulatory guidance for using risk information related to digital systems in the licensing actions of nuclear power plants (NPPs). The objective of this research is to identify and develop methods, analytical tools, and regulatory guidance to support (1) using information on the risks of digital systems in NPP licensing decisions and (2) including models of digital systems into NPP probabilistic risk assessments (PRAs).

As part of this research, NRC is sponsoring a project on the use of traditional PRA methods to develop and quantitatively assess reliability models of digital systems. The initial tasks of this project, including preparatory work for developing reliability models of an example system, are addressed in NUREG/CR-6962, “Traditional Probabilistic Risk Assessment Methods for Digital Systems” (to be published shortly). The application of the selected traditional methods to the example system is documented in draft NUREG/CR-XXXX, “Modeling a Digital Feedwater Control System Using Traditional Probabilistic Risk Assessment Methods.” This notice announces the availability of the draft NUREG/CR for public comment.

DATES: Please submit comments on NUREG/CR-XXXX, “Modeling a Digital Feedwater Control System Using Traditional Probabilistic Risk Assessment Methods,” by December 29, 2008. Comments received after this date will be considered if practical to do so, but the NRC staff is able to ensure consideration only for those comments received on or before this date.

ADDRESSES: NUREG/CR-XXXX, “Modeling a Digital Feedwater Control System Using Traditional Probabilistic Risk Assessment Methods,” is available for inspection and copying for a fee at NRC's Public Document Room (PDR), Public File Area O-1F21, One White Flint North, 11555 Rockville Pike, Rockville, Maryland. Publicly available documents created or received at NRC after November 1, 1999, are available electronically at NRC's Electronic Reading Room at http://www.nrc.gov/NRC/ADAMS/index.html. From this site, the public can gain entry into NRC's Agencywide Document Access and Management System (ADAMS), which provides text and image files of NRC's public documents. The ADAMS Accession Numbers for NUREG/CR-XXXX, “Modeling a Digital Feedwater Control System Using Traditional Probabilistic Risk Assessment Methods,” are ML082800062 (main report) and ML082800063 (appendices). If you do not have access to ADAMS or have problems accessing the documents located in ADAMS, contact the NRC PDR Reference staff at 1-800-397-4209, (301) 415-4737, or by e-mail to pdr@nrc.gov.

This document also will be posted on NRC's public Web site at: http://www.nrc.gov/about-nrc/regulatory/research/digital/tech-reference.html#one.

Please submit comments to Chief, Rulemaking, Directives and Editing Branch, Division of Administrative Services, Office of Administration, U.S. Nuclear Regulatory Commission, Washington, DC 20555-0001. You also may deliver comments to 11545 Rockville Pike, Rockville, MD, between 7:30 a.m. and 4:30 p.m. on Federal workdays, or by e-mail to: nrcrep@nrc.gov.

FOR FURTHER INFORMATION CONTACT: Alan Kuritzky, Office of Nuclear Regulatory Research, U.S. Nuclear Regulatory Commission, Washington, DC 20555-0001, telephone (301) 415-6255, e-mail: Alan.Kuritzky@nrc.gov.

Dated at Rockville, Maryland this 6th day of November, 2008.
For the U.S. Nuclear Regulatory Commission.
Christiana Lui,
Director, Division of Risk Analysis, Office of Nuclear Regulatory Research.

[FR Doc. E8-27100 Filed 11-13-08; 8:45 am]

BILLING CODE 7590-01-P